DEPARTMENT OF ENERGY

Federal Energy Regulatory Commission

[Docket Nos. ER01-1319-001, et al.]

Puget Sound Energy, Inc., et al.; Electric Rate and Corporate Regulation Filings

March 16, 2001.

Take notice that the following filings have been made with the Commission:

1. Puget Sound Energy, Inc.

[Docket No. ER01-1319-001]

Take notice that on March 13, 2001, Puget Sound Energy, Inc., tendered for filing a Netting Agreement with California Department of Water Resources (CDWR).

A copy of the filing was served upon CDWR.

Comment date: April 3, 2001, in accordance with Standard paragraph E at the end of this notice.

2. Southern Company Services, Inc.

[Docket No. ER01-1510-000]

Take notice that on March 13, 2001, Southern Company Services, Inc., acting on behalf of Alabama Power Company (APC), tendered for filing an Interconnection Agreement (IA) by and between Calpine Construction Finance Company, L.P. (Calpine) and APC. The IA allows Calpine to interconnect its generating facility to be located in Tallapoosa County, Alabama to APC's electric system.

An effective date of March 13, 2001 has been requested.

Comment date: April 3, 2001, in accordance with Standard paragraph E at the end of this notice.

3. American Transmission Systems, Inc.

[Docket No. ER01-1511-000]

Take notice that on March 13, 2001, American Transmission Systems, Inc., tendered for filing a Service Agreement to provide Firm Point-to-Point Transmission Service for Axia Energy, LP, the Transmission Customer. Services are being provided under the American Transmission Systems, Inc., Open Access Transmission Tariff submitted for filing by the Federal Energy Regulatory Commission in Docket No. ER99-2647-000.

The proposed effective date under the Service Agreement is March 9, 2001 for the above mentioned Service Agreement in this filing.

Comment date: April 3, 2001, in accordance with Standard paragraph E at the end of this notice.

4. Idaho Power Company

[Docket No. ER01-1512-000]

Take notice that on March 13, 2001, Idaho Power Company tendered for filing a long-term service agreement date March 12, 2001, under its open access transmission tariff in the above-captioned proceeding.

Comment date: April 3, 2001, in accordance with Standard paragraph E at the end of this notice.

5. American Transmission Systems, Inc.

[Docket No. ER01-1513-000]

Take notice that on March 13, 2001, American Transmission Systems, Inc., tendered for filing a Service Agreement to provide Non-Firm Point-to-Point Transmission Service for Axia Energy, LP, the Transmission Customer. Services are being provided under the American Transmission Systems, Inc., Open Access Transmission Tariff submitted for filing by the Federal Energy Regulatory Commission in Docket No. ER99-2647-000.

The proposed effective date under the Service Agreement is March 9, 2001 for the above mentioned Service Agreement in this filing.

Comment date: April 3, 2001, in accordance with Standard paragraph E at the end of this notice.

6. Public Service Company of New Mexico

[Docket No. ER01-1514-000]

Take notice that on March 13, 2001, Public Service Company of New Mexico (PNM), tendered for filing two executed service agreements with Calpine Energy Services, L.P. (Calpine), under the terms of PNM's Open Access Transmission Tariff. One agreement is for short-term firm point-to-point transmission service and one is for non-firm point-to-point transmission service. Both agreements are dated March 8, 2001. PNM's filing is available for public inspection at its offices in Albuquerque, New Mexico.

Copies of the filing have been sent to Calpine and to the New Mexico Public Regulation Commission.

Comment date: April 3, 2001, in accordance with Standard paragraph E at the end of this notice.

7. Duke Energy Audrain, LLC

[Docket No. ER01-1515-000]

Take notice that on March 13, 2001, Duke Energy Audrain, LLC (Duke Audrain), tendered for filing pursuant to Section 205 of the Federal Power Act its proposed FERC Electric Tariff No. 1 and Service Agreement No. 1 thereunder.

Duke Audrain seeks authority to sell energy and capacity, as well as ancillary services, at market-based rates, together with certain waivers and preapprovals. Duke Audrain also seeks authority to sell, assign, or transfer transmission rights that it may acquire in the course of its marketing activities.

Duke Audrain seeks an effective date of March 16, 2001, for its proposed rate schedule and Service Agreement No. 1 thereunder so that Duke Audrain can begin to sell test power on that date from the approximately 640 MW gas-fired electric generation facility that it is developing in Audrain County, Missouri.

Comment date: April 3, 2001, in accordance with Standard paragraph E at the end of this notice.

8. PacifiCorp

[Docket No. ER01-1516-000]

Take notice that on March 13, 2001, PacifiCorp tendered for filing in accordance with 18 CFR 35 of the Commission's Rules and Regulations, Umbrella Service Agreements for Non-Firm and Short-Term Firm Transmission Service with Cheyenne Light, Fuel and Power Company under PacifiCorp's FERC Electric Tariff, Second Revised Volume No. 11 (Tariff).

Copies of this filing were supplied to the Washington Utilities and Transportation Commission and the Public Utility Commission of Oregon.

Comment date: April 3, 2001, in accordance with Standard paragraph E at the end of this notice.

9. Xcel Energy Services Inc.

[Docket No. ER01-1518-000]

Take notice that on March 13, 2001, Xcel Energy Services Inc., (XES), on behalf of Northern States Power Companies (NSP), tendered for filing an Electric Service Agreement NSP and Public Service Company of Colorado.

XES requests that this Electric Service Agreement be made effective on March 12, 2001.

Comment date: April 3, 2001, in accordance with Standard paragraph E at the end of this notice.

10. Arizona Public Service Company

[Docket No. ER01-1519-000]

Take notice that on March 13, 2001, Arizona Public Service Company (APS), tendered for filing an unexecuted Interconnection and Operating Agreement with Reliant Energy, Inc., under APS’ Open Access Transmission Tariff.

A copy of this filing has been served on Reliant Energy, Inc., and the Arizona Corporation Commission.

Comment date: April 3, 2001, in accordance with Standard paragraph E at the end of this notice.

11. New York Independent System Operator, Inc.

[Docket No. ER01-1520-000]

Take notice that on March 13, 2001, the New York Independent System Operator, Inc., (NYISO), tendered for filing a new Attachment G to its Market Administration and Control Area Services Tariff (Services Tariff) in order to implement an Emergency Demand Response Program.

The NYISO has requested an effective date of May 1, 2001 for the filing and a waiver of the Commission's notice requirements.

Comment date: April 3, 2001, in accordance with Standard paragraph E at the end of this notice.

12. PJM Interconnection, L.L.C.

[Docket No. ER01-1521-000]

Take notice that on March 13, 2001, PJM Interconnection, L.L.C. (PJM), tendered for a Notice of Termination of the Umbrella Service Agreement for Network Integration Service between PJM and Utilimax.com, Inc., (PJM Interconnection, L.L.C., Third Revised Rate Schedule FERC No. 1 Service Agreement No. 468).

PJM requested a waiver to permit an effective date of March 14, 2001 for the termination of the agreement.

Copies of this filing were served upon Utilimax.com, Inc., affected Electric Distribution Companies, and all state utility regulatory commissions in the PJM control area.

Comment date: April 3, 2001, in accordance with Standard paragraph E at the end of this notice.

13. California Independent System Operator Corporation

[Docket No. ER01-1522-000]

Take notice that on March 13, 2001, the California Independent System Operator Corporation (ISO), tendered for filing a Meter Service Agreement for ISO Metered Entities between the ISO and Aera Energy LLC (Aera) for acceptance by the Commission.

The ISO states that this filing has been served on Aera and the California Public Utilities Commission.

The ISO is requesting waiver of the 60-day notice requirement to allow the Meter Service Agreement for ISO Metered Entities to be made effective January 19, 2001.

Comment date: April 3, 2001, in accordance with Standard paragraph E at the end of this notice.

14. Metropolitan Edison Company

[Docket No. ER01-1523-000]

Take notice that on March 13, 2001, Metropolitan Edison Company (Metropolitan Edison), tendered for filing an interconnection agreement (Agreement) between Metropolitan Edison and Reliant Energy Hunterstown (Reliant Energy). The Agreement sets forth the terms, conditions, and requirements for the interconnection of Reliant Energy's Huntertown generation facility in Pennsylvania with the Metropolitan Edison transmission system.

Copies of the filing were served upon Reliant Energy, PJM and regulators in the Commonwealth of Pennsylvania.

Comment date: April 3, 2001, in accordance with Standard paragraph E at the end of this notice.

15. Duke Energy Corporation

[Docket No. ER01-1524-000]

Take notice that on March 13, 2001, Duke Energy Corporation (Duke), tendered for filing a Service Agreement with Florida Power Corporation for Firm Transmission Service under Duke's Open Access Transmission Tariff.

Duke requests that the proposed Service Agreement be permitted to become effective on February 13, 2001.

Duke states that this filing is in accordance with Part 35 of the Commission's Regulations and a copy has been served on the North Carolina Utilities Commission.

Comment date: April 3, 2001, in accordance with Standard paragraph E at the end of this notice.

16. Xcel Energy Services Inc.

[Docket No. ER01-1525-000]

Take notice that on March 13, 2001, Xcel Energy Services Inc., (XES), on behalf of Northern States Power Companies (NSP), tendered for filing an Electric Service Agreement between NSP and Southwestern Public Service.

XES requests that this Electric Service Agreement be made effective on March 12, 2001.

Comment date: April 3, 2001, in accordance with Standard paragraph E at the end of this notice.

17. Newington Energy, L.L.C.

[Docket No. ER01-1526-000]

Take notice that on March 13, 2001, Newington Energy, L.L.C. (Newington), tendered for filing Newington Electric Rate Schedule No. 1 for the wholesale sale of electric energy, capacity and ancillary services at market-based rates.

Comment date: April 3, 2001, in accordance with Standard paragraph E at the end of this notice.

18. Sierra Pacific Power Company

[Docket No. ER01-1527-000]

Take notice that on March 13, 2001, Sierra Pacific Power Company (SPPC) tendered for filing an application for an order accepting its FERC Electric Tariff No. 7, which will permit SPPC to make wholesale sales of electric power and certain ancillary services at market rates to eligible customers located outside of its two Nevada control areas, and requesting waiver certain of the Commission's Regulations.

A copy of this filing has been served on the Public Utilities Commission of Nevada and the California Public Utilities Commission.

Comment date: April 3, 2001, in accordance with Standard paragraph E at the end of this notice.

19. Nevada Power Company

[Docket No. ER01-1529-000]

Take notice that on March 13, 2001, Nevada Power Company (NPC), tendered for filing an application for an order accepting its FERC Electric Tariff No. 11, which will permit NPC to make wholesale sales of electric power and certain ancillary services at market rates to eligible customers located outside of its control area and that of its Sierra Pacific Power Company affiliates, and requesting waiver certain of the Commission's Regulations.

A copy of this filing has been served on the Public Utilities Commission of Nevada and the California Public Utilities Commission.

Comment date: April 3, 2001, in accordance with Standard paragraph E at the end of this notice.

20. Entergy Services, Inc.

[Docket No. ER01-1530-000]

Take notice that on March 13, 2001, Entergy Services, Inc. (Entergy Services), on behalf of Entergy Arkansas, Inc. (EAI) (formerly Arkansas Power & Light Company), tendered for filing a 2001 Wholesale Formula Rate Update (Update) in accordance with the Power Coordination, Interchange and Transmission Service Agreements between EAI and the cities of Conway, West Memphis and Osceola, Arkansas (Arkansas Cities); the cities of Campbell and Thayer, Missouri (Missouri Cities), and the Arkansas Electric Cooperative Corporation (AECC); the Transmission Service Agreement between EAI and the Louisiana Energy and Power Authority (LEPA); the Transmission Service Agreement between EAI and the City of Hope, Arkansas (Hope); the Hydroelectric Power Transmission and Distribution Service Agreement between EAI and the City of North Little Rock, Arkansas (North Little Rock); the Wholesale Power Service Agreement between EAI and the City of Prescott, Arkansas (Prescott) and the Wholesale Power Service Agreement between EAI and Farmers Electric Cooperative Corporation (Farmers). Entergy Services states that the Update redetermines the formula rate charges and Transmission Loss Factor in accordance with: (1) the above agreements, (2) the 1994 Joint Stipulation between EAI and AECC accepted by the Commission in Docket No. ER95-49-000, as revised by the 24th Amendment to the AECC Agreement accepted by the Commission on March 26, 1996 in Docket No. ER96-1116-000, (3) the formula rate revisions accepted by the Commission on February 21, 1995 in Docket No. ER95-363-000 as applicable to the Arkansas Cities, Missouri Cities, Hope and North Little Rock, (4) the formula rate revisions as applicable to LEPA accepted by the Commission on January 10, 1997 in Docket No. ER97-257-000, and (5) the Settlement Agreement accepted by the Commission on July 2, 1999 in Docket No. ER98-2028-000 (the 1998 Formula Rate Update proceeding).

Comment date: April 3, 2001, in accordance with Standard paragraph E at the end of this notice.

Standard Paragraph

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before the Comment date. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-7115 Filed 3-21-01; 8:45 am]

BILLING CODE 6717-01-P